DEPARTMENT OF DEFENSE

48 CFR Parts 232 and 252

[DFARS Case 2002-D001]

Defense Federal Acquisition Regulation Supplement; Electronic Submission and Processing of Payment Requests

AGENCY: Department of Defense (DoD).

ACTION: Proposed rule with request for comments.

SUMMARY: DoD is proposing to amend the Defense Federal Acquisition Regulation Supplement (DFARS) to implement Section 1008 of the National Defense Authorization Act for Fiscal Year 2001. Section 1008 requires contractors to submit, and DoD to process, payment requests in electronic form.

DATES: DoD will consider all comments received by July 30, 2002.

ADDRESSES: Respondents may submit comments directly on the World Wide Web at http://emissary.acq.osd.mil/dar/dfars.nsf/pubcomm. As an alternative, respondents may e-mail comments to: dfars@acq.osd.mil. Please cite DFARS Case 2002-D001 in the subject line of e-mailed comments.

Respondents that cannot submit comments using either of the above methods may submit comments to: Defense Acquisition Regulations Council, Attn: Ms. Sandra Haberlin, OUSD(AT&L)DP(DAR), IMD 3C132, 3062 Defense Pentagon, Washington, DC 20301-3062; facsimile (703) 602-0350. Please cite DFARS Case 2002-D001.

At the end of the comment period, interested parties may view public comments on the World Wide Web at http://emissary.acq.osd.mil/dar/dfars.nsf.

FOR FURTHER INFORMATION CONTACT: Ms. Sandra Haberlin, (703) 602-0289.

SUPPLEMENTARY INFORMATION:

A. Background

This rule proposes to add a new DFARS subpart and a contract clause to implement Section 1008 of the National Defense Authorization Act for Fiscal Year 2001 (Public Law 106-398). Section 1008 provides that—

• Contractors must submit electronically, and DoD must process electronically, requests for payment under DoD contracts;

• DoD must transmit any supporting documentation electronically within DoD;

• The Secretary of Defense may exempt cases in any category if the Secretary determines that the requirement for using electronic means for submitting or transmitting payment requests is unduly burdensome; and

• This requirement shall apply to contracts for which solicitations are issued after June 30, 2001. DoD may delay implementation if the Secretary of Defense makes a finding that it is impracticable to implement this requirement by June 30, 2001, and publishes such notice in the Federal Register. In no event may implementation be delayed to a date after October 1, 2002.

Consistent with Section 1008(b) of the Defense Authorization Act, DoD submitted a plan to Congress describing how Section 1008 would be implemented. On August 21, 2001, DoD published a notice in the Federal Register (66 FR 43841) which announced a delay in implementation of Section 1008 until October 1, 2002.

This proposed DFARS rule—

• Requires contractors to submit requests for contract financing and invoice payments in electronic form;

• Requires DoD officials receiving payment requests in electronic form to process the payment requests and supporting documentation in electronic form;

• Identifies three acceptable electronic forms for transmission of payment requests. The rule also permits the contracting officer to authorize the contractor to use another electronic form, with the concurrence of the payment office and the contract administration office; and

• Identifies exemption categories being considered by DoD. The Director of Defense Procurement intends to process a request for the Secretary of Defense to approve exemptions for the categories identified in the rule.

This rule was not subject to Office of Management and Budget review under Executive Order 12866, dated September 30, 1993.

B. Regulatory Flexibility Act

DoD does not expect this rule to have a significant economic impact on a substantial number of small entities within the meaning of the Regulatory Flexibility Act, 5 U.S.C. 601, et seq., because any start-up costs that contractors will incur to comply with the rule are expected to be minimal, and should be offset by the reduced administrative costs that are expected to result from the electronic submission and processing of invoices. In addition, the rule provides for an exemption to the requirement for electronic submission in cases where the requirement would be unduly burdensome. Therefore, DoD has not performed an initial regulatory flexibility analysis. DoD invites comments from small businesses and other interested parties. DoD also will consider comments from small entities concerning the affected DFARS subparts in accordance with 5 U.S.C. 610. Such comments should be submitted separately and should cite DFARS Case 2002-D001.

C. Paperwork Reduction Act

This rule does not impose any additional information collection requirements that require the approval of the Office of Management and Budget (OMB) under 44 U.S.C. 3501, et seq. The information collection requirements for contractors to provide non-electronic payment requests already have been approved by OMB as indicated below:

FAR clause No. | Clause title | OMB control No. | Expiration date
52.216-7 | Allowable Cost and Payment | 9000-0069 | June 30, 2002.
52.232-7 | Payments Under Time-and-Materials and Labor-Hour Contracts | 9000-0070 | June 30, 2002.
52.232-12 | Advance Payments | 9000-0073 | June 30, 2002.
52.232-16 | Progress Payments | 9000-0010 | Sept 30, 2002.
52.232-32 | Performance-Based Payments | 9000-0138 | Sept 30, 2004.

Extensions of the currently approved information collection requirements under OMB control numbers 9000-0069, 9000-0070, 9000-0073, and 9000-0010 are current being processed (see the following Federal Register notices, respectively, for further information: 67 FR 19558, April 22, 2002; 67 FR 17675, April 11, 2002; 67 FR 17676, April 11, 2002; 67 FR 34683, May 15, 2002).

List of Subjects in 48 CFR Parts 232 and 252

Government procurement.

Michele P. Peterson,
Executive Editor, Defense Acquisition Regulations Council.

Therefore, DoD proposes to amend 48 CFR Parts 232 and 252 as follows:

1. The authority citation for 48 CFR Parts 232 and 252 continues to read as follows:

Authority: 41 U.S.C. 421 and 48 CFR Chapter 1.

PART 232—CONTRACT FINANCING

2. Subpart 232.70 is added to read as follows:

Subpart 232.70—Electronic Submission and Processing of Payment Requests

Sec.
232.7000 Scope of subpart.
232.7001 Definitions.
232.7002 Policy.
232.7003 Procedures.
232.7004 Contract clause.

232.7000 Scope of subpart.

This subpart prescribes policies and procedures for submitting and processing payment requests in electronic form to comply with 10 U.S.C. 2227.

232.7001 Definitions.

Electronic form and payment request, as used in this subpart, are defined in the clause at 252.232-7XXX, Electronic Submission of Payment Requests.

232.7002 Policy.

(a) Contractors must submit payment requests in electronic form, except for—

(1) Purchases paid for with a Governmentwide commercial purchase card;

(2) Awards made to foreign vendors for work performed outside the United States;

(3) Classified contracts or purchases (see FAR 4.401) when electronic submission and processing of payment requests could compromise the safeguarding of classified information or national security;

(4) Contracts awarded by deployed contracting officers in the course of military operations, including, but not limited to, contingency operations as defined in 10 U.S.C. 101(a)(13) or humanitarian or peacekeeping operations as defined in 10 U.S.C. 2302(7), or contracts awarded by contracting officers in the conduct of emergency operations, such as responses to natural disasters or national or civil emergencies;

(5) Purchases to support unusual or compelling needs of the type described in FAR 6.302-2; and

(6) Cases where the Secretary of Defense determines that the requirement for using electronic means for submitting or processing payment requests and supporting documentation is unduly burdensome.

(b) DoD officials receiving payment requests in electronic form must process the payment requests in electronic form. Any supporting documentation necessary for payment, such as receiving reports, contracts, contract modifications, and required certifications, also must be processed in electronic form.

232.7003 Procedures.

(a) The accepted electronic forms for transmission are—

(1) Web Invoicing System (see website— https://ecweb.dfas.mil);

(2) Wide Area WorkFlow Receipts and Acceptance (see website— https://rmb.ogden.disa.mil); and

(3) American National Standards Institute (ANSI) X.12 electronic data interchange (EDI) formats (see website— http://www.x12.org for information on EDI formats; see website— http://www.dfas.mil/ecedi for EDI implementation guides).

(b) If the payment office and the contract administration office concur, the contracting officer may authorize a contractor to submit a payment request—

(1) Using an electronic form other than those listed in paragraph (a) of this section; or

(2) In other than electronic form if, after contract award, the contractor is unable to submit, or DoD is unable to receive, the payment request in electronic form.

232.7004 Contract clause.

Except as provided in 232.7002(a), use the clause at 252.232-7XXX, Electronic Submission of Payment Requests, in solicitations and contracts.

PART 252—SOLICITATION PROVISIONS AND CONTRACT CLAUSES

252.212-7001 [Amended]

3. Section 252.212-7001 is amended as follows:

a. By revising the clause date to read “(XXX 2002)”; and

b. In paragraph (b) by adding, in numerical order, the entry “___ 252.232-7XXX Electronic Submission of Payment Requests (XXX 2002) (10 U.S.C. 2227)”.

4. Section 252.232-7XXX is added to read as follows:

252.232-7XXX Electronic Submission of Payment Requests.

As prescribed in 232.7004, use the following clause:

Electronic Submission of Payment Requests (XXX 2002)

(a) Definitions. As used in this clause—

(1) Contract financing payment and invoice payment have the meanings given in section 32.001 of the Federal Acquisition Regulation.

(2) Electronic form means any automated system that transmits information electronically from the initiating system to all affected systems.

(3) Payment request means any request for contract financing payment or invoice payment submitted by the Contractor under this contract.

(b) Except as provided in paragraph (c) of this clause, the Contractor shall submit payment requests using one of the following electronic forms:

(1) Web Invoicing System (WInS). Information regarding WInS is available on the Internet at https://ecweb.dfas.mil.

(2) Wide Area WorkFlow Receipts and Acceptance (WAWF-RA). Information regarding WAWF-RA is available on the Internet at https://rmb.ogden.disa.mil.

(3) American National Standards Institute (ANSI) X.12 electronic data interchange (EDI) formats.

(i) Information regarding EDI formats is available on the Internet at http://www.x12.org.

(ii) EDI implementation guides are available on the Internet at http://www.dfas.mil/ecedi.

(4) Another electronic form authorized by the Contracting Officer.

(c) If, after contract award, the Contractor is unable to submit a payment request in electronic form, or the Government is unable to receive a payment request in electronic form, the Contractor shall submit the payment request using a method mutually agreed to by the Contractor and the Contracting Officer.

(d) In addition to the requirements of this clause, the Contractor shall meet the requirements of the appropriate payment clauses in this contract when submitting payment requests.

(End of clause)

[FR Doc. 02-13532 Filed 5-30-02; 8:45 am]

BILLING CODE 5001-08-P